DEPARTMENT OF COMMERCE

International Trade Administration

[A-570-941]

Certain Kitchen Appliance Shelving and Racks From the People's Republic of China: Final Determination of Sales at Less Than Fair Value

AGENCY: Import Administration, International Trade Administration, Department of Commerce.

DATES: Effective Date: July 24, 2009.

SUMMARY: On March 5, 2009, the Department of Commerce (“Department”) published its preliminary determination of sales at less than fair value (“LTFV”) in the antidumping duty investigation of certain kitchen appliance shelving and racks (“kitchen racks”) from the People's Republic of China (“PRC”). We invited interested parties to comment on our preliminary determination of sales at LTFV. Based on our analysis of the comments we received, we have made changes from the Certain Kitchen Appliance Shelving and Racks from the People's Republic of China: Preliminary Determination of Sales at Less Than Fair Value and Postponement of Final Determination, 74 FR 9591 (March 5, 2009) (“Preliminary Determination”). The final dumping margins for this investigation are listed in the “Final Determination Margins” section below.

FOR FURTHER INFORMATION CONTACT: Julia Hancock or Katie Marksberry, AD/CVD Operations, Office 9, Import Administration, International Trade Administration, U.S. Department of Commerce, 14th Street and Constitution Avenue, NW., Washington, DC 20230; telephone: (202) 482-1394 or (202) 482-7906, respectively.

Final Determination

We determine that kitchen racks from the PRC are being, or are likely to be, sold in the United States at LTFV as provided in section 735 of the Tariff Act of 1930, as amended (“Act”). The estimated margins of sales at LTFV are shown in the “Final Determination Margins” section of this notice.

SUPPLEMENTARY INFORMATION:

Case History

The Department published its preliminary determination of sales at LTFV on March 5, 2009. See Preliminary Determination. The period of investigation (“POI”) is January 1, 2008 to June 30, 2008.

On March 10, 2009, Petitioners ¹ submitted a letter requesting that the Department issue an amended Preliminary Determination for New King Shan (Zhuhai) Co., Ltd. (“New King Shan”) based on information obtained in New King Shan's supplemental Section C Questionnaire response filed on February 27, 2009. On March 27, 2009, the Department issued a memorandum stating that the Department would not issue an amended preliminary determination but that all information submitted subsequent to the Preliminary Determination will be considered for final determination.

¹ Nashville Wire Products Inc., SSW Holding Company, Inc., United Steel, Paper and Forestry, Rubber Manufacturing, Energy, Allied-Industrial and Service Workers International Union, and the International Association of Machinists & Aerospace Workers, District Lodge 6 (Clinton, IA) (hereafter referred to as the “Petitioners”).

Between April 13, 2009 and May 27, 2009, the Department conducted verifications of Guangdong Wireking Housewares & Hardware Co., Ltd. (“Wireking”), New King Shan (Zhu Hai) Co., Ltd. (“New King Shan”), and a separate rate respondent, Hangzhou Dunli Import & Export Co., Ltd. (“Hangzhou Dunli”). See the “Verification” section below for additional information.

Upon the June 9, 2009, release of the fifth of the five verification reports,² we invited parties to comment on the Preliminary Determination. On June 16, 2009, Petitioners, New King Shan, Wireking, and the Government of China submitted case briefs. On June 24, 2009, Petitioners, Wireking, and New King Shan submitted rebuttal briefs.

² See Memorandum to the File through Catherine Bertrand, Program Manager, Office 9, from Julia Hancock, Senior Case Analyst: Verification of the Sales and Factors of New King Shan's U.S. affiliate in the Antidumping Duty Investigation of Certain Kitchen Appliance Shelving and Racks from the People's Republic of China, (June 3, 2009) (“New King Shan Affiliate Verification Report”); Memorandum to the File through Catherine Bertrand, Program Manager, Office 9, from Julia Hancock, Senior Case Analyst, and Kathleen Marksberry, Case Analyst: Verification of the Sales and Factors of Guangdong Wireking Housewares & Hardware Co., Ltd. (“Wireking”) in the Antidumping Duty Investigation of Certain Kitchen Appliance Shelving and Racks from the People's Republic of China, (June 8, 2009) (“Wireking Verification Report”); Memorandum to the File through Catherine Bertrand, Program Manager, Office 9, from Julia Hancock, Senior Case Analyst, and Kathleen Marksberry, Case Analyst: Verification of the Sales and Factors of Zhu Hai) Co., Ltd. (“New King Shan”) in the Antidumping Duty Investigation of Certain Kitchen Appliance Shelving and Racks from the People's Republic of China, (June 8, 2009) (“New King Shan Zhuhai Verification Report”); Memorandum to the File through Catherine Bertrand, Program Manager, Office 9, from Julia Hancock, Senior Case Analyst, and Kathleen Marksberry, Case Analyst: Verification of the Responses of Hangzhou Dunli Import and Export Co., Ltd. (“Hangzhou Dunli”) in the Antidumping Duty Investigation of Certain Kitchen Appliance Shelving and Racks from the People's Republic of China, (June 8, 2009); and Memorandum to the File through Catherine Bertrand, Program Manager, Office 9, from Julia Hancock, Senior Case Analyst, and Kathleen Marksberry, Case Analyst: Verification of the Responses of New King Shan (Zhu Hai) Co., Ltd. (“New King Shan”) in the Antidumping Duty Investigation of Certain Kitchen Appliance Shelving and Racks from the People's Republic of China, (June 9, 2009) (“New King Shan Taiwan Verification Report”).

Analysis of Comments Received

All issues raised in the case and rebuttal briefs by parties to this investigation are addressed in the “Investigation of Certain Kitchen Appliance Shelving and Racks from the People's Republic of China: Issues and Decision Memorandum,” (“Issues and Decision Memorandum”), dated concurrently with this notice and which is hereby adopted by this notice. A list of the issues which parties raised and to which we respond in the Issues and Decision Memorandum is attached to this notice as Appendix I. The Issues and Decision Memorandum is a public document and is on file in the Central Records Unit (“CRU”), Room 1117, and is accessible on the World Wide Web at http://trade.gov/ia/index.asp. The paper copy and electronic version of the memorandum are identical in content.

Changes Since the Preliminary Determination

Based on our analysis of information on the record of this investigation, we have made changes to the margin calculations for the final determination for New King Shan and have determined that the application of total adverse facts available (“AFA”) is warranted in the case of Wireking. We have revalued certain surrogate values used in the Preliminary Determination. The values that were modified for this final determination are those for nickel anode and the surrogate financial ratios. For further details see Issues and Decision Memorandum at Comments 9 and 10, and Memorandum to the File from Kathleen Marksberry, Case Analyst, through Catherine Bertrand, Program Manager, AD/CVD Operations, Office 9; Subject: Certain Kitchen Appliance Shelving and Racks from the People's Republic of China: Surrogate Values for the Final Determination, date July 20, 2009 (“Final Surrogate Value Memo”).

In addition, we have made some company-specific changes since the Preliminary Determination. Specifically, we have incorporated, where applicable, post-preliminary clarifications based on verification and corrected certain clerical errors for New King Shan. We have also applied partial AFA, where applicable, for various findings from the verification of New King Shan. For further details on these company-specific changes, see Issues and Decision Memorandum at Comments 17B, 17C, 17D, 17G, 17H, 17I, 17K, 17L, and 17M. See Memorandum to the File from Kathleen Marksberry, Case Analyst: Program Analysis for the Final Determination of Antidumping Duty Investigation of Certain Kitchen Appliance Shelving and Racks from the People's Republic of China: New King Shan (Zhuhai) Co., Ltd. (July 20, 2009) (“New King Shan Final Analysis Memo”).

Scope of Investigation

The scope of this investigation consists of shelving and racks for refrigerators, freezers, combined refrigerator-freezers, other refrigerating or freezing equipment, cooking stoves, ranges, and ovens (“certain kitchen appliance shelving and racks” or “the merchandise under investigation”). Certain kitchen appliance shelving and racks are defined as shelving, baskets, racks (with or without extension slides, which are carbon or stainless steel hardware devices that are connected to shelving, baskets, or racks to enable sliding), side racks (which are welded wire support structures for oven racks that attach to the interior walls of an oven cavity that does not include support ribs as a design feature), and subframes (which are welded wire support structures that interface with formed support ribs inside an oven cavity to support oven rack assemblies utilizing extension slides) with the following dimensions:

—Shelving and racks with dimensions ranging from 3 inches by 5 inches by 0.10 inch to 28 inches by 34 inches by 6 inches; or

—Baskets with dimensions ranging from 2 inches by 4 inches by 3 inches to 28 inches by 34 inches by 16 inches; or

—Side racks from 6 inches by 8 inches by 0.1 inch to 16 inches by 30 inches by 4 inches; or

—Subframes from 6 inches by 10 inches by 0.1 inch to 28 inches by 34 inches by 6 inches.

The merchandise under investigation is comprised of carbon or stainless steel wire ranging in thickness from 0.050 inch to 0.500 inch and may include sheet metal of either carbon or stainless steel ranging in thickness from 0.020 inch to 0.2 inch. The merchandise under investigation may be coated or uncoated and may be formed and/or welded. Excluded from the scope of this investigation is shelving in which the support surface is glass.

The merchandise subject to this investigation is currently classifiable in the Harmonized Tariff Schedule of the United States (“HTSUS”) statistical reporting numbers 8418.99.8050, 8418.99.8060, 7321.90.5000, 7321.90.6090, and 8516.90.8000. Although the HTSUS subheadings are provided for convenience and customs purposes, the written description of the scope of this investigation is dispositive.

Affiliation

In the Preliminary Determination, the Department determined that, based on the evidence on the record in this investigation and based on evidence presented in Wireking's questionnaire responses, we preliminarily found that Wireking is affiliated with Company G,³ which was involved in Wireking's sales process, and other companies, pursuant to sections 771(33)(E), (F) and (G) of the Act, based on ownership and common control. In addition to being affiliated, there is a significant potential for price manipulation based on the level of common ownership and control, shared management, shared offices, and an intertwining of business operations. See 19 CFR 351.401(f)(1) and (2). Accordingly, we also found that Wireking and Company G should be considered as a single entity for purposes of this investigation.

³ The identity of this company is business proprietary information; for further discussion of this company, see Memorandum to Catherine Bertrand, Program Manager, AD/CVD Operations, Office 9, from Julia Hancock, Senior Case Analyst, AD/CVD Operations, Office 9: Preliminary Determination in the Antidumping Duty Investigation of Certain Kitchen Appliance Shelving and Racks from the People's Republic of China: Affiliation Memorandum of Wireking, (February 26, 2009) (“Wireking Affiliation Memo”).

No other information has been placed on the record since the Preliminary Determination to contradict the above information upon which we based our finding that these companies constitute a single entity. Therefore, for the final determination, we continue to find that Wireking and Company G are a single entity pursuant to sections 771(33)(E), (F), and (G) of the Act, based on ownership and common control. We also continue to determine that they should be considered as a single entity for purposes of this investigation. See 19 CFR 351.401(f).

Additionally, in the Preliminary Determination, we found based on the evidence on the record in this investigation that New King Shan is affiliated with Company A, Company B, Company C, and Company D,⁴ pursuant to sections 771(33)(A), (E), (F), and (G) of the Act, based on ownership and common control. No other information has been placed on the record since the Preliminary Determination to contradict the above information upon which we based our finding that these companies constitute a single entity. Therefore, for the final determination, we continue to find that New King Shan is affiliated with Company A, Company B, Company C, and Company D, pursuant to sections 771(33)(A), (E), (F), and (G) of the Act, based on ownership and common control.

⁴ The identities of these companies are business proprietary; for further discussion of these companies, see Memorandum to the File from Katie Marksberry, Case Analyst: Preliminary Determination of Antidumping Duty Investigation of Certain Kitchen Appliance Shelving and Racks from the People's Republic of China: Affiliation Memorandum of New King Shan (Zhuhai) Co., Ltd., (February 26, 2009) (“New King Shan Affiliation Memo”).

Use of Facts Available

Section 776(a)(2) of the Act provides that if an interested party: (A) Withholds information that has been requested by the Department; (B) fails to provide such information in a timely manner or in the form or manner requested, subject to subsections 782(c)(1) and (e) of the Act; (C) significantly impedes a determination under the antidumping statute; or (D) provides such information but the information cannot be verified, the Department shall, subject to subsection 782(d) of the Act, use facts otherwise available in reaching the applicable determination.

Section 782(c)(1) of the Act provides that if an interested party “promptly after receiving a request from {the Department} for information, notifies {the Department} that such party is unable to submit the information in the requested form and manner, together with a full explanation and suggested alternative form in which such party is able to submit the information,” the Department may modify the requirements to avoid imposing an unreasonable burden on that party.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses, as appropriate.

Section 782(e) of the Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability; and (5) the information can be used without undue difficulties.

Furthermore, section 776(b) of the Act states that if the administering authority finds that an interested party has not acted to the best of its ability to comply with a request for information, the administering authority may, in reaching its determination, use an inference that is adverse to that party. The adverse inference may be based upon: (1) The petition, (2) a final determination in the investigation under this title, (3) any previous review under section 751 or determination under section 753, or (4) any other information placed on the record.

Wireking

Pursuant to sections 776(a)(2)(A), (B), and (C) of the Act, we are applying facts otherwise available to Wireking because the Department finds that the information necessary to calculate an accurate and otherwise reliable margin is not available on the record with respect to Wireking. Additionally, the Department finds that Wireking withheld information, failed to provide the information requested by the Department in a timely manner and in the form required, and significantly impeded the Department's ability to calculate an accurate margin for Wireking. Specifically, in its questionnaire responses, Wireking reported that because it produces both subject-kitchen racks and non-subject products and that it does not maintain production records that trace consumption to a specific product, it could not report factors of production (“FOPs”) specific to subject-kitchen racks. Because Wireking had reported its FOPs broadly over all products, we issued numerous questionnaires to Wireking that asked detailed questions of the actual and standard production records maintained by the company, all efforts taken by Wireking to report more kitchen rack-specific FOPs, and provided sample allocation methods for how they might allocate their FOPs on a more specific basis. See the Department's January 16, 2009, questionnaire; the Department's January 14, 2009, letter; and the Department's March 16, 2009, questionnaire. Despite our efforts to obtain kitchen rack-specific FOPs, Wireking refused to comply with our requests and maintained that the most accurate method for reporting its FOPs was using a broad allocation over all products (both subject merchandise and non-subject merchandise). However, at verification, we found for the first time that Wireking maintained a standard bill-of-materials and actual production notes, which are generated for each production run of a product. See Wireking's Verification Report, at 18. These actual production notes identify the quantity of each product run and the quantity of steel wire, the intermediate product, records of which Wireking repeatedly stated that they do not maintain. See Wireking's March 30, 2009, submission at 25. The Department finds that if we had been notified of the existence of these records, we would have been able to obtain FOPs from Wireking on a more specific basis. However, because of Wireking's refusal to answer the entirety of our questions and refusal to attempt to report FOPs on a kitchen rack-specific basis, we only have FOPs that are broadly allocated over both kitchen racks and non-kitchen rack products and do not accurately capture the cost of production of only subject-kitchen racks. Accordingly, the Department finds that the application of facts available is necessary in this case because Wireking's broadly reported FOPs, which includes the most significant input, steel wire rod, and accounts for the majority of the normal value, are inaccurate and unreliable. Therefore, pursuant to sections 776(a)(1) and (2)(A), (B), and (C) of the Act, the Department is resorting to facts otherwise available.

In addition, in accordance with section 776(b) of the Act, the Department is applying an adverse inference in selecting the facts available rate, as it has determined that Wireking did not act to the best of its ability to cooperate with the Department in this investigation because it did not disclose until verification that it had the production records that would have allowed the Department to obtain kitchen rack-specific FOPs. As AFA, we are applying the PRC-wide rate of 95.99 percent. For further discussion, please see Issues and Decision Memorandum at Comment 16A and Memorandum to the File, through James C. Doyle, Director, Office 9, AD/CVD Operations, and Catherine Bertrand, Program Manager, Office 9, AD/CVD Operations, from Julia Hancock, Senior Case Analyst, Office 9, AD/CVD Operations, Subject: Application of Adverse Facts Available for Guangdong Wireking Housewares & Hardware Co., Ltd. in the Final Determination of the Antidumping Duty Investigation of Certain Kitchen Appliance Shelving and Racks from the People's Republic of China, (July 20, 2009) (“Wireking AFA Memo”).

New King Shan

For the final determination, in accordance with section 776(a)(1) of the Act, we have determined that the use of facts available (“FA”) is warranted for New King Shan's indirect selling expenses for its affiliates. See Issues and Decision Memorandum at Comment 17I; New King Shan's Taiwan Verification Report at VE 6; New King Shan's Chicago Verification Report. We note that New King Shan has submitted indirect selling expenses for certain of its affiliates to the Department. However, because the submitted information from New King Shan regarding the total indirect selling expenses for New King Shan's U.S. affiliate and the other affiliated companies includes indirect selling expenses for activity not associated with the U.S. sales, the Department finds that it does not have the necessary information to quantify the portion of the indirect selling expense associated with U.S. sales, pursuant to section 776(a)(1) of the Act. Therefore, as FA, pursuant to section 776(a) of the Act, the Department will calculate the total indirect selling expenses incurred by New King Shan's affiliated companies by multiplying total indirect selling expenses for each company by the ratio of total sales revenue of U.S. sales of subject-kitchen racks divided by total sales revenue of each company, and then multiplying the ratio of total indirect selling expenses for subject-kitchen racks divided by total sales revenue to the gross unit price of each sale.⁵ See New King Shan Final Analysis Memo. Additionally, in accordance with sections 773(c)(3)(B) of the Act, section 776(a)(2)(A), (B) and (D) of the Act, and section 776(b) of the Act, we have determined that the use of partial AFA is warranted for New King Shan's unverified U.S. duty calculation. See Issues and Decision Memorandum at Comment 17K; New King Shan's Taiwan Verification Report at 23. As partial AFA, we are using the highest reported U.S. duty expense reported in New King Shan's U.S. sales database and applying this as the AFA plug for U.S. duties to all sales. See New King Shan Final Analysis Memo.

⁵ Mitsubishi Heavy Indus. v. United States, 23 CIT 326, 328 (1999) (“Mitsubishi”); Notice of Final Results of the Eleventh Administrative Review of the Antidumping Duty Order on Certain Corrosion-Resistant Carbon Steel Flat Products from the Republic of Korea, 71 FR 7513 (February 13, 2006) and accompanying Issues and Decision Memorandum at Comment 11.

Verification

As provided in section 782(i) of the Act, we verified the information submitted by mandatory respondents Wireking and New King Shan, and separate rate respondent Hangzhou Dunli for use in our final determination. See New King Shan Affiliate Verification Report, Wireking Verification Report, New King Shan Zhuhai Verification Report, Hangzhou Dunli Verification Report, and New King Shan Taiwan Verification Report. For all verified companies, we used standard verification procedures, including examination of relevant accounting and production records, as well as original source documents provided by respondents.

Surrogate Country

In the Preliminary Determination, we stated that we selected India as the appropriate surrogate country to use in this investigation for the following reasons: (1) It is a significant producer of comparable merchandise; (2) it is at a similar level of economic development pursuant to 773(c)(4) of the Act; and (3) we have reliable data from India that we can use to value the factors of production. See Preliminary Determination. For the final determination, we received no comments and made no changes to our findings with respect to the selection of a surrogate country.

Separate Rates

In proceedings involving non-market-economy (“NME”) countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate. See Final Determination of Sales at Less Than Fair Value: Sparklers from the People's Republic of China, 56 FR 20588 (May 6, 1991) (“Sparklers”), as amplified by Notice of Final Determination of Sales at Less Than Fair Value: Silicon Carbide from the People's Republic of China, 59 FR 22585 (May 2, 1994) (“Silicon Carbide”), and Section 351.107(d) of the Department's regulations.

In the Preliminary Determination, we found that New King Shan, Wireking, and the separate rate applicants (Marmon Retail Services Asia, Jiangsu Weixi Group Co., and Hangzhou Dunli, collectively, the “Separate Rate Applicants”) demonstrated their eligibility for, and were hence assigned, separate-rate status. No party has commented on the eligibility of these companies for separate rate status. For the final determination, we continue to find that the evidence placed on the record of this investigation by these companies demonstrates both a de jure and de facto absence of government control with respect to their exports of the merchandise under investigation. Thus, we continue to find that they are eligible for separate rate status. Normally, the separate rate is determined based on the estimated weighted-average dumping margins established for exporters and producers individually investigated, excluding de minimis margins or margins based entirely on AFA. See section 735(c)(5)(A) of the Act.

In the Preliminary Determination, the Department assigned to the Separate Rate Applicants' exporter/producer combinations that qualified for a separate rate a weighted-average margin based on the experience of the mandatory respondents, excluding any de minimis or zero rates or rates based on total AFA. See Preliminary Determination. For the final determination, we are granting Wireking a separate rate based on information that was verified.⁶ The Department is basing this rate for Wireking on total AFA.⁷ Therefore, the Department will assign New King Shan's calculated rate as the separate rate for the Separate Rate Applicants' exporter/producer combinations. See section 735(c)(5)(A) of the Act.

⁶ Wireking Verification Report.

⁷ See Memorandum to Ronald K. Lorentzen, Acting Assistant Secretary for Import Administration from John M. Andersen, Acting Deputy Assistant Secretary for Antidumping and Countervailing Duty Operations: Certain Kitchen Appliance Shelving and Racks from the People's Republic of China: Issues and Decision Memorandum for the Final Determination (July 20, 2009) (“Issues and Decision Memorandum”).

The PRC-Wide Rate

In the Preliminary Determination, the Department found that Asber Enterprise Co., Ltd. (China) and the PRC-wide entity did not respond to our requests for information. In the Preliminary Determination we treated PRC exporters/producers that did not respond to the Department's request for information as part of the PRC-wide entity because they did not demonstrate that they operate free of government control. No additional information has been placed on the record with respect to these entities after the Preliminary Determination. The PRC-wide entity has not provided the Department with the requested information; therefore, pursuant to section 776(a)(2)(A) of the Act, the Department continues to find that the use of facts available is appropriate to determine the PRC-wide rate. Section 776(b) of the Act provides that, in selecting from among the facts otherwise available, the Department may employ an adverse inference if an interested party fails to cooperate by not acting to the best of its ability to comply with requests for information. See Notice of Final Determination of Sales at Less Than Fair Value: Certain Cold-Rolled Flat-Rolled Carbon-Quality Steel Products from the Russian Federation, 65 FR 5510, 5518 (February 4, 2000). See also, Statement of Administrative Action accompanying the URAA, H.R. Rep. No. 103-316, vol. 1, at 870 (1994) (“SAA”). We find that, because the PRC-wide entity did not respond to our request for information, it has failed to cooperate to the best of its ability. Therefore, the Department finds that, in selecting from among the facts otherwise available, an adverse inference is appropriate for the PRC-wide entity.

Because we begin with the presumption that all companies within a NME country are subject to government control and because only the companies listed under the “Final Determination Margins” section below have overcome that presumption, we are applying a single antidumping rate—the PRC-wide rate—to all other exporters of subject merchandise from the PRC. Such companies did not demonstrate entitlement to a separate rate. See, e.g., Synthetic Indigo from the People's Republic of China: Notice of Final Determination of Sales at Less Than Fair Value, 65 FR 25706 (May 3, 2000). The PRC-wide rate applies to all entries of subject merchandise except for entries from New King Shan, Wireking, Marmon Retail Services Asia, Hangzhou Dunli, and Jiangsu Weixi Group Co., which are listed in the “Final Determination Margins” section below.

Corroboration

At the Preliminary Determination, in accordance with section 776(c) of the Act, we based the adverse facts available (“AFA”) rate on margins from the petition,⁸ and corroborated it using information submitted by certain respondents. Petitioners' methodology for calculating the export price (“EP”) and NV in the petition is discussed in the initiation notice. See Certain Kitchen Appliance Shelving and Racks from the People's Republic of China: Initiation of Antidumping Duty Investigation, 73 FR 50596, 50598-99 (August 27, 2008) (“Initiation Notice”). In the final determination, only one mandatory respondent, New King Shan Co, received an individually calculated weighted-average margin. Thus, the Department had limited information from which to corroborate the selected AFA rate. To assess the probative value of the total AFA rate selected for the PRC-wide entity and the total AFA rate chosen for the other mandatory respondent, Wireking, we compared the transaction-specific rates calculated for New King Shan to the margins contained in the petition. The Department concludes that by using New King Shan's highest transaction specific margin as a limited reference point, the highest petition margin that can be corroborated is 95.99 percent. Furthermore, we find that the rate of 95.99 percent is corroborated within the meaning of section 776(c) of the Act. See Memorandum to the File: Corroboration of the PRC-Wide Facts Available Rate and Wireking's AFA Rate for the Final Determination in the Antidumping Duty Investigation of Certain Kitchen Appliance Shelving and Racks from the People's Republic of China, (July 20, 2009) (“Final Corroboration Memo”). Thus, we determine that 95.99 percent is the single AFA antidumping rate for the PRC-wide entity, and that 95.99 percent is also the single AFA antidumping duty rate for Wireking for this final determination.

⁸ See Petition, at Volume II, Exhibit 14.

Combination Rate

In its Initiation Notice, the Department stated that it would calculate combination rates for certain respondents that are eligible for a separate rate in this investigation. See Initiation Notice. Therefore, for the final determination, we have assigned a combination rate to respondents that are eligible for a separate rate.

Final Determination Margins

We determine that the following percentage weighted-average margins exist for the POI:

Exporter | Producer | WA margin
Guangdong Wireking Housewares & Hardware Co., Ltd. (a/k/a Foshan Shunde Wireking Housewares & Hardware Co., Ltd.) | Guangdong Wireking Housewares & Hardware Co., Ltd | 95.99
New King Shan (Zhu Hai) Co., Ltd | New King Shan (Zhu Hai) Co., Ltd | 44.77
Marmon Retail Services Asia | Leader Metal Industry Co., Ltd. (a/k/a Marmon Retail Services Asia) | 44.77
Hangzhou Dunli Import & Export Co., Ltd | Hangzhou Dunli Industry Co., Ltd | 44.77
Jiangsu Weixi Group Co | Jiangsu Weixi Group Co | 44.77
PRC-wide Entity (including Asber Enterprise Co., Ltd. (China)) |  | 95.99

Disclosure

We will disclose the calculations performed within five days of the date of publication of this notice to parties in this proceeding in accordance with 19 CFR 351.224(b).

Continuation of Suspension of Liquidation

Pursuant to section 735(c)(1)(B) of the Act, we will instruct U.S. Customs and Border Protection (“CBP”) to continue to suspend liquidation of all entries of subject merchandise from the PRC entered, or withdrawn from warehouse, for consumption on or after March 5, 2009, the date of publication of the Preliminary Determination. CBP shall continue to require a cash deposit or the posting of a bond equal to the estimated amount by which the normal value exceeds the U.S. price as shown above. These instructions suspending liquidation will remain in effect until further notice.

In accordance with section 733(d) of the Act, we will instruct CBP to suspend liquidation of all entries of subject certain kitchen appliance shelving and racks from the PRC as described in the “Scope of Investigation” section, entered, or withdrawn from warehouse, for consumption from Wireking, New King Shan, Marmon Retail Services Asia, Hangzhou Dunli Import & Export Co., Ltd., Jiangsu Weixi Group Co., and the PRC-wide entity on or after the date of publication of this notice in the Federal Register. We will instruct CBP to require a cash deposit or the posting of a bond for all entries of certain kitchen appliance shelving and racks from the People's Republic of China.

Additionally, the Department has continued to find in its Certain Kitchen Appliance Shelving and Racks From the People's Republic of China: Final Affirmative Countervailing Duty Determination, (July 20, 2009) (“CVD Final”) that the products under investigation, exported and produced by Wireking, benefitted from an export subsidy. The following export subsidies were determined in the CVD Final: Income Tax reduction for Export Oriented FIEs; countervailable subsidy of 0.94 percent; and Local Income Tax Reduction for “Productive” FIEs: Countervailable subsidy of 0.23 percent. In the CVD Final, Wireking's rate was assigned to the All-Others rate as it was the only rate that was not zero, de minimis or based on total facts available. Accordingly, as the countervailing duty rate for New King Shan, Marmon Retail Services Asia, Hangzhou Dunli Import & Export Co., Ltd., and Jiangsu Weixi Group Co. is the All-Others rate, which includes two countervailable export subsidies, we will instruct CBP to require an antidumping duty cash deposit or the posting of a bond for each entry equal to the weighted-average margin indicated above for these companies adjusted for the countervailing duties imposed to offset export subsidies determined in the CVD Final. The adjusted cash deposit rate for New King Shan is 43.60 percent and, as the antidumping duty cash deposit rate assigned to the separate rate companies is New King Shan's rate, the adjusted cash deposit rate for Marmon Retail Services Asia, Hangzhou Dunli Import & Export Co., Ltd., and Jiangsu Weixi Group Co. also is 43.60 percent.

ITC Notification

In accordance with section 735(d) of the Act, we have notified the International Trade Commission (“ITC”) of our final determination of sales at LTFV. As our final determination is affirmative, in accordance with section 735(b)(2) of the Act, within 45 days the ITC will determine whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Notification Regarding APO

This notice also serves as a reminder to the parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation.

This determination and notice are issued and published in accordance with sections 735(d) and 777(i)(1) of the Act.

Dated: July 20, 2009.
Ronald K. Lorentzen,
Acting Assistant Secretary for Import Administration.

Appendix I—Changes From the Preliminary Determination

General Issues

Comment 1: Double Remedy: Antidumping Duties and CVD Duties

Comment 2: New King Shan's Antidumping Duty Margin

Comment 3: Filing Issues Concerning Petitioners' Submissions

Comment 4: Rejection of New King Shan's Minor Corrections

Comment 5: Rejection of New Information in New King Shan's Surrogate Value Rebuttal Submission

Surrogate Values

Comment 6: Wire Rod

Comment 7: Hydrochloric Acid

Comment 8: Sodium Triphosphate

Comment 9: Nickel Anode

Surrogate Financial Ratios

Comment 10: Surrogate Financial Companies

Comment 11: Treatment of Gratuity Benefits

Comment 12: Treatment of Commissions

Comment 13: Treatment of Advertising

Comment 14: Treatment of Job Work Charges

Comment 15: Treatment of Labor Expenses

Company-Specific Issues

Comment 16: Wireking

A. Total Adverse Facts Available (“AFA”) for Wireking

B. Partial AFA for Factors of Production (“FOPs”)

C. Partial AFA for Labor

D. Partial AFA for Underreported Weight-per-Piece FOPs

E. Partial AFA for Yield Loss

F. Partial AFA for Market Economy Movement Expenses

G. Facts Available (“FA”) for PVC Buffer

H. Water

I. Unreported U.S. Sales

J. Distance from Factory to Port

K. Name Correction

Comment 17: New King Shan

A. Total AFA for New King Shan

B. Partial AFA for FOPs

C. Yield Loss and Steel Scrap

D. Allocation of Stainless Steel and Steel Plate Products

E. Date of Sale

F. Verification of Quantity and Value of U.S. Sales

G. Interest Rate for Sale Expenses

H. U.S. Warehousing

I. U.S. Indirect Selling Expenses

J. Credit Expenses

K. U.S. Customs Duty

L. Reporting of Ocean Freight

M. Affiliate's Market Economy (“ME”) Purchases

N. Period for Credit Expenses

[FR Doc. E9-17717 Filed 7-23-09; 8:45 am]

BILLING CODE 3510-DS-P